DEPARTMENT OF EDUCATION

Office of Elementary and Secondary Education—Safe and Drug-Free Schools and Communities National Programs

AGENCY: Department of Education.

ACTION: Notice of final priority and selection criteria for Fiscal Year 2001—Safe Schools/Healthy Students Initiative.

SUMMARY: The Secretary of Education (the Secretary) announces a final priority and selection criteria for fiscal year (FY) 2001. Under this priority, the Departments of Education (ED), Health and Human Services (HHS), and Justice (DOJ) will fund the implementation and enhancement of comprehensive community-wide strategies for creating safe and drug-free schools and promoting healthy childhood development.

To be funded, local comprehensive strategies must address the following six elements and may address other elements as determined by the needs of the community: (1) Safe school environment; (2) alcohol and other drugs and violence prevention and early intervention; (3) school and community mental health preventive and treatment intervention programs; (4) early childhood psychosocial and emotional development services; (5) educational reform; and (6) safe school policies.

EFFECTIVE DATE: This notice takes effect May 18, 2001.

FOR FURTHER INFORMATION CONTACT: Detailed information regarding the Safe Schools/Healthy Students Initiative is available at the following sites on the Internet:

http://www.ed.gov/offices/OESE/SDFS

http://www.ojjdp.ncjrs.org

http://www.samhsa.gov

Individuals who use a telecommunications device for the deaf (TDD) may call the Federal Information Relay Service (FIRS) at 1-800-877-8339.

SUPPLEMENTARY INFORMATION: More than a generation of research has provided a solid knowledge base of the complex risk processes that lead to violent outcomes for children, families, schools, and communities. Antisocial behaviors of children and adolescents at highest risk arise from the interaction of multiple environmental and individual antecedents that begin early in the child's life. They include (1) stressful family environments; (2) lack of parenting skills; (3) alienation between family and school (and other community institutions); and (4) individual characteristics of the child that may be biologically based (e.g., irritability, impulsivity), that interfere with critical early attachment and nurturing relationships and later make the child's behavior difficult to control. This results in the early onset of aggressive behaviors, an increase in behavior problems at home, and the continuation and escalation of problems with peers and teachers when the child reaches school age. Unless interrupted, antisocial behavior persists throughout the school career and on into adulthood. High risk converges in middle school and accelerates into adolescence. Risk is exacerbated by exposure to negative peer pressure and a noxious environment where few protective factors are available. This, in turn, increases the likelihood of interpersonal violence and other antisocial behavior, substance abuse and addiction, potential drug dealing, the emergence of disorders such as depression and anxiety, academic failure, risky sexual behaviors leading to increased risk for HIV and other sexually-transmitted diseases, and teen pregnancy.

The Safe Schools/Healthy Students (SS/HS) Initiative draws on the best practices in the fields of education, justice, social service, and mental health to promote a comprehensive, integrated framework for use by communities in planning, designing, and implementing programs to prevent school violence and youth alcohol and other drug use. This comprehensive framework includes: (1) Establishing school-community partnerships; (2) identifying and measuring the problem; (3) setting measurable goals and objectives; (4) identifying appropriate research-based programs and strategies; (5) implementing the programs and strategies in an integrated fashion; (6) evaluating the outcomes of the programs and strategies; and (7) revising the comprehensive plan on the basis of evaluation information.

The goal of the Safe Schools/Healthy Students Initiative is to help students develop the skills and emotional resilience necessary to promote positive mental health and engage in pro-social behavior, thereby preventing violent behavior and alcohol and other drug use so that that all students who attend the schools served by this initiative are able to learn in a safe, disciplined, and drug-free environment. Successful applicants will provide students, schools, and families within the targeted geographic area to be served a network of effective comprehensive services, support, and activities that promote healthy youth development and safety.

Eligible Applicants: Local educational agencies.

The Secretary, with the Secretary of HHS and the Attorney General, will award approximately 15 grants in FY 2001 to local educational agencies. To be eligible for funding, applicants must:

(a) Develop a SS/HS comprehensive plan that addresses the following six elements: (1) Safe school environment, (2) alcohol and other drugs and violence prevention and early intervention programs, (3) school and community mental health preventive and treatment intervention services, (4) early childhood psychosocial and emotional development programs, (5) educational reform, and (6) safe school policies.

The SS/HS comprehensive plan must show evidence of a partnership comprising, at a minimum, the local educational agency, local public mental health authority, local law enforcement agency, family members, teachers, students, juvenile justice officials, and community organizations, including faith-based organizations.

(b) Submit two formal written agreements. The first must describe the goals and objectives of the partnership and include a delineation of the roles and responsibilities of each partner. This agreement must contain the signatures of the school superintendent, the head of the local public mental health authority, and the chief law enforcement executive adopting the SS/HS comprehensive plan, and commitments by each to accomplish all objectives.

The second written agreement must describe the procedures to be used for referral, treatment, and follow-up by the specialty mental health system for children and adolescents with serious mental health problems. This agreement must be signed by the school superintendent and the head of the local public mental health organization.

(c) Provide documentation of the community need and available resources as follows:

—Baseline assessment of risk factors among students, such as (1) students engaged in alcohol and drug use and violent behavior; (2) incidence and prevalence of alcohol and drug use by youth; (3) prevalence of weapons in schools; (4) incidents of serious and violent crime in schools; (5) truancy and other unauthorized absences; (6) suicidal behaviors; (7) student suspensions and expulsions for drug use or violent behavior; (8) students on probation; (9) students in juvenile justice placements; (10) students in foster care and child protective services; (11) students with emotional and behavioral disorders; (12) children abused and neglected; and (13) school attendance and performance.

—An assessment of community risk factors such as (1) socioeconomic conditions as measured by the percentage of families at or below the poverty level and percentage of students receiving free and reduced price lunch at school; (2) population turnover; (3) racial and ethnic heterogeneity; (4) housing density; (5) household composition; (6) crime and delinquency rates including domestic violence and rape; and (7) suicide rates.

—An assessment of resources and services available to students and their families, such as (1) number of afterschool programs; (2) number of youth served by programs to build social skills; (3) number and quality of community mental health and social service organizations available to provide services to children, adolescents, and families; (4) number of youth participating in academic readiness programs; (5) number and types of early intervention services and programs; (6) number and types of law enforcement prevention programs; (7) number of substance abuse programs; (8) presence of a community anti-drug coalition; and (9) number and types of peer mediation and community mediation programs.

(d) Provide for mental health services to all students in the SS/HS comprehensive plan.

(e) Show that Federal regulations regarding possession of firearms and reporting of firearm offenses to appropriate law enforcement officials and regulations regarding tobacco use are being enforced.

(f) Provide documentation (charter, publications, meeting minutes, etc.) of the existing partnership in operation that will be enhanced and expanded.

In making awards under this grant program, the Secretary, with the Secretary of HHS and the Attorney General, may (1) take into consideration the geographic distribution and diversity of activities addressed by the projects, in addition to the rank order of applicants, and (2) in accordance with 34 CFR 75.217(d) of the Education Department General Administrative Regulations, ensure equitable distribution of grants under this program among urban, suburban, and rural LEAs.

Contingent upon the availability of funds, the Secretary, with the Secretary of HHS and the Attorney General, may make additional awards in FY 2002 from the rank-ordered list of unfunded applicants from this competition.

Note: This notice of final priority and selection criteria does not solicit applications. A notice inviting applications under this competition is published in a separate notice in this issue of the Federal Register.

Absolute Priority: Under 34 CFR 75.105(c)(3); the Safe and Drug-Free Schools and Communities Act; and Public Laws 106-554 and 106-553 enacted December 21, 2000, the Secretary, with the Secretary of HHS and the Attorney General, gives an absolute preference to applications that meet the following priority:

Implementing and Enhancing Comprehensive Community-wide Strategies for Creating Safe and Drug-free Schools and Promoting Healthy Childhood Development

Applicants proposing a project under this priority must demonstrate how the funds they are requesting support or enhance a comprehensive, integrated strategy for an entire school district that includes, at a minimum, the following six elements: (1) Safe school environment; (2) alcohol and other drugs and violence prevention and early intervention; (3) school and community mental health preventive and treatment intervention programs; (4) early childhood psychosocial and emotion development services; (5) educational reform; and (6) safe school policies. In circumstances where implementation of the strategy for an entire school district is not possible, applicants must provide a full explanation of how the chosen schools will receive services under all six elements of the plan, and why district-wide implementation is not feasible or appropriate.

Selection Criteria

The Secretary, with the Secretary of HHS and the Attorney General, uses the following selection criteria to evaluate applications for new grants under this competition. The maximum total score for all of these criteria is 100 points.

The maximum score for each criterion or factor under that criterion is indicated in parentheses.

(a) Problems to be addressed (15 points).

In assessing the extent to which the application is based on a clear and accurate statement of the significant problems faced by the target community, the following factors are considered:

(1) The magnitude or severity of the problem(s) to be addressed by the proposed strategy;

(2) The extent to which existing gaps in services and resources exist, the magnitude of those gaps and weaknesses, and the extent to which the community is ready to improve current conditions;

(3) The factual basis for the problem statement, based on data including, at a minimum but not limited to, the rates of the following:

—Students engaged in alcohol and drug use and violent behavior;

—Incidence and prevalence of alcohol and drug use by youth;

—Prevalence of weapons in schools;

—Incidents of serious and violent crime in schools;

—Truancy and other unauthorized absences;

—Suicidal behaviors;

—Student suspensions and expulsions;

—Students on probation;

—Students in juvenile justice placements;

—Students in foster care and child protective services;

—Child abuse and neglect;

—School attendance and academic performance data;

—Students with emotional and behavioral disorders;

(4) Evidence of community risk factors that may contribute to youth violence, drug use, and delinquency such as the following:

—Socioeconomic conditions as measured by the percentage of families at or below the poverty level and percentage of students receiving free and reduced price lunch at school;

—Population turnover;

—Racial and ethnic heterogeneity;

—Housing density;

—Household composition;

—Crime and delinquency rates including domestic violence and rape;

—Suicide rates;

—Violent crime victimization rate for youth under the age of 18;

(1) The extent to which the problem statement includes an assessment of the community resources available for children and adolescents, including:

—Number of afterschool programs;

—Number of youth served by programs to build social skills;

—Number and quality of community mental health and social service organizations available to provide services to children, adolescents, and families;

—Number of youth participating in academic readiness programs;

—Number and types of early intervention services and programs;

—Number and types of law enforcement prevention programs;

—Number and quality of substance abuse prevention programs;

—Presence of a community anti-drug coalition;

—Presence of community mediation or victim-offender mediation programs; and

(6) Extent of community readiness to collaborate and improve current conditions.

(b) Goals and objectives (10 points).

In assessing the goals and objectives of the proposed comprehensive plan, the following factors are considered:

(1) The extent to which the goals and objectives for the proposed strategy are clearly defined, measurable, and attainable;

(2) The extent to which the proposed strategy will meet the established goals and objectives and lead to healthy childhood development and positive mental health, and safe, disciplined, and alcohol- and drug-free learning environments; and

(3) The extent to which the objectives identified are related to measurable action steps needed to achieve the goal(s).

(c) Design of proposed strategy (30 points).

In assessing the design of the proposed strategy, the following factors are considered:

(1) The extent to which the proposed strategy represents a comprehensive network in which each element of the Safe Schools/Healthy Students Initiative is addressed and incorporated in an integrated fashion;

(2) The extent to which the intervention is appropriate for the age and developmental levels, gender, and ethnic and cultural diversity of the target population, and demonstrates the ability to engage and respond to the needs of identified ethnic/racial minority populations;

(3) The extent to which the application clearly describes the programs, activities, and services that comprise the proposed strategy;

(4) For Elements 2, 3, and 4 of the SS/HS comprehensive plan described under Eligible Applicants (above), the extent to which the proposed programs provide evidence that they are effective and do no harm. (Up to 10 points out of the maximum 30 points for this criterion will be used to assess the strength of the applicant's design for these elements);

(5) The extent to which the proposed strategy will be coordinated with similar or related efforts and will establish linkages with other appropriate agencies and organizations providing services to the target population;

(6) The potential for continued support of the strategy after Federal funding ends, including, as appropriate, the demonstrated commitment of appropriate entities to such support;

(7) The extent to which the implementation process is adequately documented;

(8) The extent to which the program selected is designed to help meet the goals and objectives of the community's comprehensive plan.

(d) Evaluation plan (15 points).

In determining the quality of the evaluation plan, the following factors will be considered:

(1) The extent to which the plan provides information for increasing the effectiveness of management and administration of the SS/HS comprehensive plan, documents that objectives have been met, and determines the overall effectiveness of the plan, its programs, and strategies;

(2) The extent to which the methods of evaluation are thorough, feasible, and appropriate to the goals, objectives, and outcomes of the proposed comprehensive plan;

(3) The adequacy of the identified performance measures to demonstrate whether and to what extent the proposed strategy is meeting its short-term, intermediate, and long-term objectives;

(4) Adequacy and appropriateness of the plan to collect data related to violence from a variety of sources such as mental health services, social services, schools, law enforcement agencies, and the juvenile justice system;

(5) The extent to which the methods of evaluation address data needs for sustainability of the SS/HS comprehensive plan after Federal support has ended.

(e) Management and organizational capability (20 points).

In determining the quality of management and organizational capability, the following factors are considered:

(1) The level of commitment proposed by the written agreements signed by the school superintendent, the head of the local public mental health authority, and the chief law enforcement executive, as well as written agreements with other community partners;

(2) The relevance and demonstrated commitment of each partner in the proposed strategy to the implementation and success of the strategy, and how they will participate in the proposed project;

(3) The adequacy of the management plan to achieve the objectives of the proposed project on time and within budget, including clearly defined responsibilities, timelines, and milestones for accomplishing project tasks;

(4) The adequacy of procedures for communicating and sharing information among all partners to ensure feedback and continuous improvement in the operation of the proposed comprehensive plan;

(5) The skills, experience, time commitments, and educational requirements of key staff and relevance of those qualifications to the objectives of the proposed SS/HS comprehensive plan;

(6) The extent to which staff qualifications and training represent diverse and relevant experience in engaging and providing services to underserved, underrepresented, and/or diverse racial/ethnic groups.

(f) Budget (10 points).

In determining the quality of the budget, the following factors will be considered:

(1) The extent to which the costs are reasonable in relation to the number of students to be served and to the anticipated benefits and results;

(2) The extent to which fiscal control and accounting procedures will ensure prudent use, proper and timely disbursement and accurate accounting of funds received under the grant.

Waiver of Proposed Rulemaking

It is the Secretary's practice, in accordance with the Administrative Procedure Act (5 U.S.C. 553), to offer interested parties the opportunity to comment on proposed rules. Section 437(d)(1) of the General Education Provisions Act (GEPA), however, exempts from this requirement rules that apply to the first competition under a new or substantially revised program. Congressional action that provided Department of Labor funds in 2001 for the Safe Schools/Healthy Students constituted a significant change in the initiative. As a result of this change, the Assistant Secretary, in accordance with section 437(d)(1) of GEPA, has decided to forego public comment in order to ensure timely awards.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: The Education Department General Administrative Guidelines in 34 CFR parts 74, 75 (except 75.102), 77, 79, 80, 81, 82, 85, 98, and 99.

Program Authority: 20 U.S.C. 7131.

Electronic Access to This Document:

You may view this document in text or Adobe Portable Document Format (PDF) on the Internet at the following site: http://www.ed.gov/legislation/FedRegister

To use PDF you must have the Adobe Acrobat Reader, which is available free at the previous site. If you have questions about using PDF, call the U.S. Government Printing Office (GPO), toll-free, at (888) 293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number 84.184L, Safe and Drug-Free Schools and Communities Act National Programs—Federal Activities Grants Program)

Dated: May 14, 2001.
Thomas M. Corwin,
Acting Deputy Assistant Secretary for Elementary and Secondary Education.

[FR Doc. 01-12557 Filed 5-17-01; 8:45 am]

BILLING CODE 4000-01-U